DEPARTMENT OF ENERGY

Federal Energy Regulatory Commission

[Docket No. PL10-4-000]

Technical Conference on Penalty Guidelines; Notice of Technical Conference on Penalty Guidelines

The staff of the Federal Energy Regulatory Commission (Commission) will hold a conference on November 17, 2011, to discuss the Penalty Guidelines, which the Commission issued on September 17, 2010.¹ The conference will be held from 1:00 p.m. to 4:30 p.m. Eastern Standard Time in the Commission Meeting Room at the Commission's headquarters located at 888 First Street, NE., Washington, DC 20426.

¹ Enforcement of Statutes, Orders, Rules, and Regulations, 132 FERC ¶ 61,216 (2010).

The purpose of the conference is to discuss the impact of the Penalty Guidelines on compliance and enforcement matters. More information on the topics to be explored and the number and composition of the panels will be provided in subsequent notices.

All interested persons are invited to attend the conference, and there is no registration fee to attend. The conference will not be transcribed but will be webcast. A free webcast of this event will be available through http://www.ferc.gov. Anyone with Internet access who desires to view this event can do so by navigating to http://www.ferc.gov's Calendar of Events and locating this event in the Calendar. The event will contain a link to its webcast. The Capitol Connection provides technical support for the webcasts and offers access to the meeting via phone bridge for a fee. If you have any questions, you may visit http://www.CapitolConnection.org.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

Questions about the technical conference may be directed to Jeremy Medovoy by e-mail at Jeremy.Medovoy@ferc.gov or by telephone at 202-502-6768.

Dated: September 21, 2011.
Kimberly D. Bose,
Secretary.

[FR Doc. 2011-24960 Filed 9-27-11; 8:45 am]

BILLING CODE 6717-01-P